DEPARTMENT OF STATE

[Public Notice 7494]

Waiver of Restriction on Assistance to the Central Government of Tajikistan

Pursuant to Section 7086(c)(2) of the Department of State, Foreign Operations, and Related Programs Appropriations Act, 2010 (Division F,

Pub. L. 111-117), as carried forward by the Full-Year Continuing Appropriations Act, 2011 (Div. B, Pub. L. 112-10) (“the Act”), and Department of State Delegation of Authority Number 245-1, I hereby determine that it is important to the national interest of the United States to waive the requirements of Section 7086(c)(1) of the Act with respect to Tajikistan and I hereby waive such restriction.

This determination shall be reported to the Congress, and published in the Federal Register.

Dated: May 26, 2011. _________________________
Thomas Nides,
Deputy Secretary of State
for Management and Resources .

[FR Doc. 2011-14171 Filed 6-7-11; 8:45 am]

BILLING CODE 4710-46-P